ENVIRONMENTAL PROTECTION AGENCY

[FRL-9703-5]

Proposed CERCLA Section 122(h) Settlement Relating to the Jewett White Lead Company Superfund Site (“Site”), Located on Staten Island, Richmond County, NY

AGENCY: Environmental Protection Agency.

ACTION: Notice; request for public comment.

SUMMARY: In accordance with Section 122(i) of the Comprehensive Environmental Response, Compensation, and Liability Act of 1980, as amended (“CERCLA”), notice is hereby given by the U.S. Environmental Protection Agency (“EPA”), Region 2, of a proposed Administrative Settlement Agreement (“Agreement”) pursuant to Section 122(h)(1) of CERCLA, and the inherent settlement authority of the United States with NL Industries, Inc. (the “Settling Party”). Settling Party is a potentially responsible party, pursuant to Section 107(a) of CERCLA, and thus is potentially liable for response costs incurred or to be incurred at or in connection with the Jewett White Lead Company Superfund Site (“Site”), located on Staten Island, Richmond County, New York. Based upon Settling Party's commitment to provide this funding to EPA, as set forth in the Agreement, EPA intends to perform or finance this removal action. Within 10 days after the effective date, Settling Party agrees to pay to EPA $1,374,000. Thereafter, Settling Party shall pay an additional $176,000 six months after the effective date of the Agreement. For thirty (30) days following the date of publication of this notice, EPA will receive written comments relating to the proposed Agreement.

SUPPLEMENTARY INFORMATION: In accordance with Section 122(i) of the Comprehensive Environmental Response, Compensation, and Liability Act of 1980, as amended (“CERCLA”), 42 U.S.C. 9622(i), notice is hereby given by the U.S. Environmental Protection Agency (“EPA”), Region 2, of a proposed Administrative Settlement Agreement (“Agreement”) pursuant to Section 122(h)(1) of CERCLA, 42 U.S.C. 9622(h)(1), and the inherent settlement authority of the United States with NL Industries, Inc. (the “Settling Party”). Settling Party is a potentially responsible party, pursuant to Section 107(a) of CERCLA, 42 U.S.C. 9607(a), and thus is potentially liable for response costs incurred or to be incurred at or in connection with the Jewett White Lead Company Superfund Site (“Site”), located on Staten Island, Richmond County, New York. The Site includes two parcels of land separated by an active roadway, one located at 2000-2012 Richmond Terrace, and the other at 2015 Richmond Terrace, in the Port Richmond area of the north shore of Staten Island, New York. EPA and Settling Party seek through this proposed Agreement to enable Settling Party to finance the performance of EPA's documented removal action of excavation and off-site disposal of contaminated soils at the 2000-2012 Richmond Terrace portion of the Site. Based upon Settling Party's commitment to provide this funding to EPA, as set forth in the Agreement, EPA intends to perform or finance this removal action. Within 10 days after the effective date, Settling Party agrees to pay to EPA $1,374,000. Thereafter, Settling Party shall pay an additional $176,000 six months after the effective date of the Agreement. The proposed Agreement includes a covenant by EPA not to sue or take administrative action against Settling Party pursuant to Sections 106 and 107 of CERCLA, 42 U.S.C. 9606 and 9607, with regard to this specific removal action which EPA intends to perform at the 2000-2012 Richmond Terrace portion of the Site. For thirty (30) days following the date of publication of this notice, EPA will receive written comments relating to the proposed Agreement. EPA will consider all comments received and may modify or withdraw its consent to the Agreement if comments received disclose facts or considerations that indicate that the proposed Agreement is inappropriate, improper, or inadequate. EPA's response to any comments received will be available for public inspection at EPA Region 2 offices, 290 Broadway, New York, New York 10007-1866.

DATES: Comments must be submitted on or before August 22, 2012.

ADDRESSES: The Agreement is available for public inspection at EPA Region 2 offices at 290 Broadway, New York, New York 10007-1866. Comments should reference the Jewett White Lead Company Superfund Site (“Site”), located on Staten Island, Richmond County, New York. Index No. II-CERCLA-02-2012-2016. To request a copy of the Agreement, please contact the EPA employee identified below.

FOR FURTHER INFORMATION CONTACT: Henry Guzmán, Assistant Regional Counsel, New York/Caribbean Superfund Branch, Office of Regional Counsel, U.S. Environmental Protection Agency, 290 Broadway—17th Floor, New York, New York 10007-1866. Telephone: 212-637-3166.

Dated: July 3, 2012.
Walter E. Mugdan,
Director, Emergency and Remedial Response Division, Region 2.

[FR Doc. 2012-17886 Filed 7-20-12; 8:45 am]

BILLING CODE 6560-50-P